FEDERAL COMMUNICATIONS COMMISSION

[Report No. 2630]

Petitions for Reconsideration and Clarification of Action in Rulemaking Proceeding

September 15, 2003.

Petitions for Reconsideration and Clarification have been filed in the Commission's Rulemaking proceeding listed in this Public Notice and published pursuant to 47 CFR 1.429(e). The full text of this document is available for viewing and copying in Room CY-A257, 445 12th Street, SW., Washington, DC or may be purchased from the Commission's copy contractor. Qualex International (202) 863-2893. Oppositions to these petitions must be filed by October 6, 2003. See Section 1.4(b)(1) of the Commission's rules (47 CFR 1.4(b)(1)). Replies to an opposition must be filed within 10 days after the time for filing oppositions have expired.

Subject: In the Matter of 2002 Biennial Regulatory Review—Review of the Commission's Broadcast Ownership Rules and Other Rules Adopted Pursuant to Section 202 of the Telecommunications Act of 1996 (MB Docket No. 02-277).

Cross-Ownership of Broadcast Stations and Newspapers (MM Docket No. 01-235).

Rules and Policies Concerning Multiple Ownership of Radio Broadcast Stations in Local Markets (MM Docket No. 01-317).

Definition of Radio Markets (MM Docket No. 00-244).

Definition of Radio Markets for Areas Not Located in an Arbitron Survey Area (MB Docket No. 03-130).

Number of Petitions Filed: 27.

Marlene H. Dortch,
Secretary.

[FR Doc. 03-23907 Filed 9-18-03; 8:45 am]

BILLING CODE 6712-01-M